ENVIRONMENTAL PROTECTION AGENCY

40 CFR Part 52

[GA-47; GA-52; GA-55-200111; FRL-7009-3]

Approval and Promulgation of Implementation Plans; Georgia: Approval of Revisions to Georgia State Implementation Plan

AGENCY: Environmental Protection Agency (EPA).

ACTION: Final rule.

SUMMARY: In a December 16, 1999, Federal Register document (see 64 FR 70478), EPA proposed to approve the 1-hour ozone attainment demonstration for the Atlanta nonattainment area (Atlanta attainment demonstration), as well as the underlying rule revisions, which were submitted by the Georgia Environmental Protection Division (GAEPD) on October 28, 1999. EPA's proposed approval was based on the condition that the GAEPD satisfy certain requirements established in the proposal. Subsequently, the GAEPD submitted revisions to the Atlanta attainment demonstration on January 31, 2000, and July 31, 2000. Those rule revisions were proposed for approval in the Federal Register on December 18, 2000, at 65 FR 79034. No adverse comments were received pertaining to any rule revisions. In today's action, EPA is granting final approval to the rule revisions contained in the December 16, 1999, and December 18, 2000, proposals. Action will be taken on the Atlanta attainment demonstration in a separate notice.

EFFECTIVE DATE: This rule will be effective August 9, 2001.

ADDRESSES: All comments should be addressed to: Scott M. Martin at the EPA, Region 4 Air Planning Branch, 61 Forsyth Street, SW., Atlanta, Georgia 30303.

Copies of the State submittals are available at the following addresses for inspection during normal business hours:

Environmental Protection Agency, Region 4, Air Planning Branch, 61 Forsyth Street, SW., Atlanta, Georgia 30303-8960.

Air Protection Branch, Georgia Environmental Protection Division, Georgia Department of Natural Resources, 4244 International Parkway, Suite 120, Atlanta, Georgia 30354. Telephone (404) 363-7000.

FOR FURTHER INFORMATION CONTACT: Scott M. Martin at (404) 562-9036. martin.scott@epa.gov.

SUPPLEMENTARY INFORMATION:

I. Background

In a December 16, 1999, Federal Register document (see 64 FR 70478), EPA proposed to approve the 1-hour ozone attainment demonstration for the Atlanta nonattainment area (Atlanta attainment demonstration), as well as the underlying rule revisions, which were submitted by the Georgia Environmental Protection Division (GAEPD) on October 28, 1999. EPA's proposed approval was based on the condition that the GAEPD satisfy certain requirements established in the proposal. Subsequently, the GAEPD submitted revisions to the Atlanta attainment demonstration on January 31, 2000, and July 31, 2000. Those rule revisions were proposed for approval in the Federal Register on December 18, 2000, at 65 FR 79034. No adverse comments were received pertaining to any rule revisions. In today's action, EPA is granting final approval to the rule revisions contained in the December 16, 1999, and December 18, 2000, proposals. Action will be taken on the Atlanta attainment demonstration in a separate notice.

Description of Major Revisions to Rules for Air Quality Submitted on October 28, 1999

The October 28, 1999, attainment demonstration submittal included several regulations that will reduce emissions of NOX and VOC in the Atlanta modeling domain. EPA is approving the revisions to Georgia's Rules for Air Quality Control Chapter 391-3-1 described below.

Rule 391-3-.02, subparagraph (2)(ii) relating to “VOC Emissions from Surface Coating of Miscellaneous Metal Parts and Products” is being amended. This rule is amended to exempt aerospace manufacturing and rework facilities from the rule. The rule is also being modified in order to keep Rule (ii) consistent with the most current Architectural Aluminum Manufacture's Association (AAMA) standard in place.

The current rule only exempts the surface coating of airplane exteriors. Rule (ii) is no longer applicable to aerospace sources because the State has previously submitted a new rule limiting VOC emissions from aerospace manufacturing and rework facilities that meets EPA requirements (i.e., AAMA standards). In order to keep Rule (ii) consistent with the current AAMA standard, subparagraph 5.(xiii) has been modified to state that the coatings must satisfy the requirements of the most recent AAMA publication (number AAMA 605.2). This will prevent the standard that is stated in Rule (ii) from becoming outdated.

Rule 391-3-1-.02 subsection (6) relating to “Specific Monitoring” is being amended by adding a new subsection (a)2.(xii) which requires affected sources to install and operate continuous emissions monitoring systems for NOX and for oxygen or an approved alternative. The affected sources are those subject to the new rules for boilers (rule 391-3-1.02(2)(lll)). A requirement to install and operate monitors in order to determine initial compliance and track ongoing compliance with the above rule for boilers with a maximum design heat input capacity equal to or greater than 100 million BTU has been added. The rule allows, as an alternative, the use of predictive emissions monitoring systems for certain fuels.

Rule 391-3-1-.03 subsection (6)(b)11 relating to “Stationary Engines” is being amended to narrow the group of stationary engines that are not required to obtain air quality permits. Stationary engines with a rated capacity of 300 kilowatts or greater that are used for emergency and/or peaking power and that are located in a 45 county area in and around Atlanta would no longer be exempt from air quality permitting.

Rule 391-3-1-.03, paragraph (8)(c)(9) relating to “Permit Requirements” is being amended to correct a typographical error. Federal regulation 40 CFR part 52, appendix S is referenced in this regulation. It was incorrectly listed as part 51.

Rule 391-3-1-.03 subsection (8)(e) relating to “Permit Requirements” is being amended to require those sources in the additional 32 counties outside the designated nonattainment area to comply with new source permitting requirements because the emissions from these counties have been determined to affect ozone formation in the metro-Atlanta area. This rule identifies the 32 counties in the modeling analysis but outside the 13 county nonattainment area where the rule will apply and requires new or modified stationary sources in the counties to comply with the requirements of section (c). This rule will apply to new or modified stationary sources emitting 100 tons per year or more of volatile organic compounds or nitrogen oxides.

Description of Major Revisions to the Inspection and Maintenance Rules

The EPA is approving the revisions to Georgia's Rules for Enhanced Inspection and Maintenance Chapter 391-3-20 described below.

Rule 391-3-20-.01 relating to “Definitions” is being amended to change or delete definitions related to biennial testing, to modify the definition of ASM to include a dual-mode ASM test for older vehicles, to update the reference to the Federal I/M regulations, to define the term “Waiver,” and to renumber the definitions.

The ASM test requirement is modified to require a dual-mode ASM 2525/5015 test, effective January 1, 2002. The GAEPD also revised the I/M rule to require annual testing effective January 1, 2000. The definitions of “Off-Year Inspection” and “Regular Inspection” are deleted since they are not relevant after the change to an annual program. The term “Waiver” is defined. The Federal I/M regulations, as of July 1, 1999, are referenced. Other clarifications are made.

Rule 391-3-20-.03 paragraph (4) relating to “Covered Vehicles; Exemptions” is being amended to extend the exemption period for new vehicles. Effective January 1, 2001, new vehicles are exempt from testing until the test year three years following the model year of the vehicle.

Description of Major Revisions to Rules for Air Quality Submitted on January 31, 2000

The January 31, 2000, submittal included several regulations that will reduce emissions of NOX and VOC in the Atlanta modeling domain. EPA is approving the revisions to Georgia's Rules for Air Quality Control Chapter 391-3-1 described below.

The October 28, 1999, submittal expanded the coverage of several rules outside the 13 county nonattainment area to an additional 32 counties for a total of 45 counties. After receiving adverse comment from many of the counties affected by the expansion, the EPD agreed to revise the rules to reduce the economic hardship imposed on the smaller and more rural counties. The following 26 counties shall no longer be subject to the requirements of the rules listed below: Banks, Barrow, Butts, Chattooga, Clarke, Dawson, Floyd, Gordon, Haralson, Heard, Jackson, Jasper, Jones, Lamar, Lumpkin, Madison, Meriwether, Monroe, Morgan, Oconee, Pickens, Pike, Polk, Putnam, Troup and Upson; these rules are 391-3-1-.02(2)(tt), (vv), (yy), (ccc), (ddd), (eee), (hhh) and 391-3-1-.03(8)(c)(14). In addition to the 13 counties in the Atlanta 1-hour ozone nonattainment area, Bartow, Carroll, Hall, Newton, Spalding, and Walton counties shall be subject to the rules listed above.

Rule 391-3-1-.02(2)(jjj) relating to “NOX Emissions from Electric Utility Steam Generating Units” is being amended to expand the coverage of the rule to include affected coal-fired electric utility steam generating units in the counties of Monroe and Putnam and to include a lower average NOX emissions limit for all affected units.

Effective May 1, 2003, the NOX emissions from all affected units at Plants Bowen (Bartow County), Hammond (Floyd County), McDonough (Cobb County), Wansley (Heard County), and Yates (Coweta County) will be limited to the equivalent of 0.13 lb/million BTU five plant average. An overlapping requirement, also effective May 1, 2003, limits NOX emissions from all the same units described above plus the units at Plants Branch (Putnam County) and Scherer (Monroe County) to the equivalent of 0.20 lb/million BTU seven plant average. Compliance will be determined potentially in two steps. First, each source will be assigned a specific alternative emission limit. If the actual emission rate from each source is less than its alternative limit, then all affected sources would be in compliance. If the actual emission rate from any source is greater than its alternative limit, then compliance would be demonstrated by showing that the actual BTU-weighted average emission rate for all affected sources is less than 0.13 lb/million BTU for the 5 plants and 0.20 lb/million BTU for the 7 plants listed above. Compliance with the alternative emission limits would be determined such that their BTU-weighted average does not exceed the 0.13 and 0.20 lb/million BTU limits. The compliance period will be based on a 30-day rolling average beginning May 1 and ending September 30 of each year.

Rule 391-3-1-.02(2)(kkk) relating to “VOC Emissions from Aerospace Manufacturing and Rework Facilities” is being amended by adding compliance dates. Compliance dates have been added which give affected sources located outside of the Atlanta 1-hour ozone nonattainment area until January 1, 2001, to comply with the rule.

Rule 391-3-1-.02(2)(mmm) relating to “NOX Emissions from Stationary Gas Turbines and Stationary Engines used to Generate Electricity” is being amended to remove an exemption from the rule. The exemption, “Stationary engines used exclusively in the handling and distribution of natural gas,” is being removed. Stationary engines used to pump, compress, or liquefy natural gas are still exempt under another exemption which exempts engines not connected to an electrical generator. Therefore, the removal of the exemption makes engines used to generate electricity at natural gas pumping, compression, or liquefaction plants subject to the rule consistent with other industries.

Rule 391-3-1-.03(8)(c)(15) relating to “Additional Provisions for Electrical Generating Units Located in Areas Contributing to the Ambient Air Level of Ozone in the Metropolitan Atlanta Ozone Nonattainment Area” is being added. “Electrical generating unit” is defined as a fossil fuel fired stationary boiler, combustion turbine, or combined cycle system that serves a generator which produces electricity for sale. Any new electrical generating unit located at a “major source” (which is defined as any source which has the potential to emit at least 100 tons per year NOX) or any physical change or change in the method of operation of an existing electrical generating unit located at an existing major source which results in a net increase of 40 tons or more NOX is subject to additional permitting requirements. This rule is applicable to electrical generating units at major sources located in 26 counties surrounding the 13 county Atlanta nonattainment area and the six counties subject to Rule 391-3-1-.03(8)(c)(14). Sources subject to this rule are required to use best achievable control technology (BACT) to control emissions and are required to obtain emission offsets at a ratio of 1.1 to 1. Sources located in the counties of Banks, Barrow, Bartow, Butts, Carroll, Chattooga, Clarke, Dawson, Floyd, Gordon, Hall, Haralson, Heard, Jackson, Jasper, Jones, Lamar, Lumpkin, Madison, Meriwether, Monroe, Monroe, Morgan, Newton, Oconee, Pickens, Pike, Polk, Putnam, Spalding, Troup, Upson, and Walton (32 county area) shall be subject to this rule.

Rule 391-3-1-.03(13) relating to “Emission Reduction Credits” is being amended. The purpose of this rule is to facilitate construction permitting for sources undertaking major modifications or new constructions in federally designated ozone nonattainment areas and areas contributing to ambient concentrations of ozone in nonattainment areas in the state of Georgia. The proposed amendments to this rule revise the eligibility requirements for major sources to make them consistent with corresponding changes that are being proposed for Rule 391-3-1-.03, Section (8); respond to comments received from EPA concerning applicability of its recently issued Economic Incentives Program to the Emission Reductions Credit Program; clarify the provisions for discounting of credits based on time banked; consolidate and move all definitions to the end of the rule; and strike a section referring to provisions of Rule 391-3-1-.03, Section (8).

Description of Major Revisions to Rules for Air Quality Submitted on July 31, 2000

Rule 391-3-1-.01, Definitions, subsection (nnnn) “Procedure for Testing and Monitoring Sources of Air Pollutants” is amended to reference a revised version of the Procedures for Testing and Monitoring Sources of Air Pollutants (“PTM”) effective April 1, 2000, which includes changes to specific test methods and procedures and to include a new section describing compliance procedures and monitoring requirements for a new emission standard for large combustion turbines. These revisions have been reviewed and meet applicable requirements.

Rule 391-3-1-.02(2)(lll) relating to “NOX Emissions from Fuel-Burning Equipment” is being amended to exempt fuel burning equipment brought on site by May 1, 1999, but which had not been installed or obtained an air quality permit under 391-3-1-.03(1) by May 1, 1999 and to provide an exemption for duct burners associated with combined cycle gas turbine systems. The original rule exempted existing boilers in their current locations because the cost of retrofitting existing boilers to comply with this rule was determined to be prohibitive. The rule was amended in January 2000, with an effective date of February 16, 2000, to exempt fuel burning equipment which had been permitted by May 1, 1999, even if the equipment was not yet installed and operational by that date. The intent was to grandfather such units because the permittee was likely to have contracted for a new boiler that could have not complied with the emission limit and incurred unrecoverable expense. Likewise, the intent in proposing this second amendment is to grandfather fuel burning equipment which had been purchased and brought on site, but which had not been installed nor made application sufficiently in time to obtain a permit by May 1, 1999. Another exemption is being added for duct burners associated with combined cycle gas turbine systems. These emission units will be subject to more stringent NOX limits under Georgia Rule 391-3-1-.02(2)(nnn) or Georgia Rule 391-3-1-.03(8)(c) as part of the overall combined cycle system.

Rule 391-3-1-.02(2)(nnn) relating to “NOX Emissions from Large Stationary Gas Turbines” is being amended. This rule will regulate NOX emissions from new and existing stationary gas turbines greater than 25MW that are located in a 45 county area in and around Atlanta (i.e. 13 county nonattainment area and the 32 county area adjacent to the nonattainment area) NOX emissions from affected stationary gas turbines permitted before April 1, 2000 will be limited to not more than 30 parts per million (or 50 parts per million for the oil-fired unit) at 15 percent oxygen with a compliance date of May 1, 2003. NOX emissions from affected stationary gas turbines permitted on or after April 1, 2000, will be limited to not more than 6 parts per million at 15 percent oxygen with a compliance requirement upon startup. The limits in this rule will apply during the period May 1 through September 30 of each year. New units subject to a NOX limit under 391-3-1-.03(8)(c)14. or 15. would be exempt from this rule. For existing units, a provision was included in the rule allowing the owner/operator to petition the Director for a revision to the rule in case a source is unable to meet the 30 parts per million (or 50 parts per million for the oil-fired unit) through combustion modifications.

Rule 391-3-1-.02(5) relating to “Open Burning” is being amended. The coverage of the rule is being expanded beyond the existing 13 county Atlanta 1-hour ozone nonattainment area to include the additional 32 county area. Subparagraph (a) is amended to add a “prescribed burning” and a “slash burning” exemption to the rule. Subparagraph (b) is reorganized to add clarity to the rule and is amended to add county specific restrictions for the six counties of Bartow, Carroll, Hall, Newton, Spalding, and Walton as well as the remaining 26 counties of the 32 county area. The six counties listed above will have the same restrictions as those in the Atlanta nonattainment area. The 26 counties remaining of the 32 county area will have the same restrictions as those in the Atlanta nonattainment area with the exception that “prescribed burning” is allowed in the 26 counties. Subparagraph (f) is added to include the definitions for “Prescribed Burning” and “Slash Burning.”

Rule 391-3-1-.03(6)(h)3 relating to “SIP Permit Exemptions for Industrial Operations” is being amended. A new exemption from permitting for small feed mill or grain mill ovens and for surface coating drying ovens is being added.

Rule 391-3-1-.03(8) is being amended. Provisions for internal offsets at a ratio of 1.3 to 1 to avoid New Source Review permitting requirements are being restored in paragraphs (c)(13)(iii) and (iv). These provisions will allow existing sources located within the Atlanta 1-hour ozone nonattainment area to avoid becoming subject to federal New Source Review permitting requirements by offsetting emission increases associated with modifications at a 1.3 to 1.0 ratio.

Rule 391-3-1-.03(11) relating to “Permit by Rule” is being amended. A typographical error in the citation of federal operating permit regulations is being corrected. The reference to 40 CFR 70.5(6)(f) is being replaced with the correct reference to 40 CFR 70.6(f).

III. Final Action

EPA is granting final approval to the rule revisions to the Georgia SIP as discussed above because they are consistent with Clean Air Act and Agency requirements.

IV. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the states, on the relationship between the national government and the states, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 10, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Hydrocarbons, Intergovernmental relations, Lead, Nitrogen dioxide, Ozone, Particulate matter, Reporting and recordkeeping requirements, Sulfur oxides.

Dated: June 12, 2001.
A. Stanley Meiburg,
Acting Regional Administrator, Region 4.

PART 52—[AMENDED]

1. The authority citation for part 52 continues to read as follows:

Authority: 42 U.S.C. 7401 et seq.

Subpart L—Georgia

2. a. In the table in § 52.570(c), the following entries are revised: 391-3-.01; 391-3-1-.02(2)(ii); 391-3-1-.02(2)(ccc); 391-3-1-.02(2)(eee); 391-3-1-.02(2)(hhh); 391-3-1-.02(2)(jjj); 391-3-1-.02(2)(5); 391-3-1-.02(2)(6); 391-3-1-.03; 391-3-20.

b. In the table in § 52.570(c), the following entries are added: 391-3-1-.02(2)(tt); 391-3-1-.02(2)(vv); 391-3-1-.02(2)(yy); 391-3-1-.02(2)(ddd); 391-3-1-.02(2)(kkk); 391-3-1-.02(2)(lll); 391-3-1-.02(2)(mmm); 391-3-1-.02(2)(nnn).

3. In § 52.570 paragraph (e), the table is amended by adding a new entry “14” and “15”.

The additions and revisions read as follows:

§ 52.570 Identification of plan.

* * * * *

(c) * * *

EPA Approved Georgia Regulations
State citation | Title/subject | State effective date | EPA approval date | Comments
* * * * * * *
391-3-1-.01 | Definitions | 8/16/00 | July 10, 2001 |
* * * * * * *
391-3-1-.02(2)(ii) | VOC Emissions from surface Coating of Miscellaneous Metal Parts and Products | 10/7/99 | July 10, 2001 |
* * * * * * *
391-3-1-.02(2)(tt) | VOC Emissions from Major Sources | 2/16/00 | July 10, 2001 |
* * * * * * *
391-3-1-.02(2)(vv) | Volatile Organic Liquid Handling and Storage | 2/16/00 | July 10, 2001 |
* * * * * * *
391-3-1-.02(2)(yy) | Emissions of Nitrogen Oxides from Major Sources | 2/16/00 | July 10, 2001 |
* * * * * * *
391-3-1-.02(2)(ccc) | VOC Emissions from Bulk Mixing tanks | 2/16/00 | July 10, 2001 |
391-3-1-.02(2)(ddd) | VOC Emissions from Offset Lithography | 2/16/00 | July 10, 2001 |
391-3-1-.02(2)(eee) | VOC Emissions from Expanded Polystyrene Products Manufacturing | 2/16/00 | July 10, 2001 |
* * * * * * *
391-3-1-.02(2)(hhh) | Wood Furniture Finishing and Cleaning Operations | 2/16/00 | July 10, 2001 |
* * * * * * *
391-3-1-.02(2)(jjj) | NOX Emissions from Electric Utility Steam Generating Units | 2/16/00 | July 10, 2001 |
391-3-1-.02(2)(kkk) | VOC Emissions from Aerospace Manufacturing and Rework Facilities | 2/16/00 | July 10, 2001 |
391-3-1-.02(2)(lll) | NOX Emissions from Fuel-Burning Equipment | 8/16/00 | July 10, 2001 |
391-3-1-.02(2)(mmm) | NOX Emissions from Stationary Gas Turbines and Stationary Engines used to Generate Electricity | 2/16/00 | July 10, 2001 |
391-3-1-.02(2)(nnn) | NOX Emissions from Large Stationary Gas Turbines | 8/16/00 | July 10, 2001 |
* * * * * * *
391-3-1-.02(2)(5) | Open Burning | 8/16/00 | July 10, 2001 |
391-3-1-.02(2)(6) | Source Monitoring | 10/7/99 | July 10, 2001 |
* * * * * * *
391-3-1-.03 | Permits | 8/16/00 | July 10, 2001 |
* * * * * * *
391-3-20 | Enhanced Inspection and Maintenance | 10/7/99 | July 10, 2001 |

* * * * *

(e) * * *

Name of nonregulatory SIP provision | Applicable geographic or nonattainment area | State submittal date/effective date | EPA approval date
* * * * * * *
14. Procedures for Testing and Monitoring Sources of Air Pollutants | Atlanta Metropolitan Area | July 31, 2000 | July 10, 2001.
15. Enhanced Inspection/Maintenance Test Equipment, Procedures and Specifications | Atlanta Metropolitan Area | September 20, 2000 | July 10, 2001.

[FR Doc. 01-17076 Filed 7-9-01; 8:45am]

BILLING CODE 6560-50-U